DEPARTMENT OF TRANSPORTATION

Federal Transit Administration

[FTA Docket No. FTA-2004-19219]

Agency Information Collection Activity Undre OMB Review

AGENCY: Federal Transit Administration, DOT.

ACTION: Notice of request for comments.

SUMMARY: In accordance with the Paperwork Reduction Act of 1995 (44 U.S.C. 3501 et seq.), this notice announces that the Information Collection Request (ICR) abstracted below has been forwarded to the Office of Management and Budget (OMB) for approval. The Federal Register Notice with a 60-day comment period soliciting comments was published on June 1, 2004.

DATES: Comments must be submitted before November 1, 2004. A comment to OMB is most effective if OMB receives it within 30 days of publication.

FOR FURTHER INFORMATION CONTACT: Sylia L. Marion, Office of Administration, Office of Management Planning, (202) 366-6680.

SUPPLEMENTARY INFORMATION: Title: 49 CFR Part 611 Major Capital Investment Projects (OMB Number: 2132-0561).

Abstract: On June 9, 1998, the Transportation Equity Act for the 21st Century (TEA-21) (Pub. L. 105-178) was enacted. Section 3009(e)(5) of TEA-21 requires FTA to issue regulations on the manner in which candidate projects for capital investment grants and loans for new fixed guideway systems and extensions to existing systems (“New Starts”) will be evaluated and rated for purposes of the FTA Capital Investment Grants and Loans program for New Starts under 49 USC Section 5309.

The Notice of Proposed Rulemaking (NPRM) for this regulation was issued on April 7, 1999, (64 FR 17062). The Final Rule was issued on December 7, 2000, (67 FR 76864). In the Federal Register of October 30, 2001, FTA announced OMB's approval of the collection of information for the Final Rule.

It is important to note that while the New Starts project evaluation and rating regulation was new when FTA first requested approval for this information collection, the requirements for project evaluation and data collection for the New Starts program are not. FTA's requirement to evaluate proposed New Starts against a prescribed set of statutory criteria is longstanding. The Surface Transportation and Uniform Relocation Assistance Act of 1987 (STURAA) established in law a set of criteria for proposed projects to become eligible for federal funding. The requirement for summary project ratings has been in place since 1998.

In general, the information used by FTA for New Starts project evaluation and rating purposes should arise as a part of the normal planning process. Prior to this Rule, FTA collected project evaluation information from project sponsors under a Paperwork Reduction Act request (OMB No. 2132-0529) approved under the joint FTA/FHWA planning regulations. However, as the project evaluation criteria expanded under TEA-21, it became aparent that some information required under this Rule might be beyond the scope of ordinary planning activities. Further, whlie FTA has long required the reporting of information for project evaluations, there has never been a regulatory requirement until TEA-21. Finally, this Rule added a new requirement for before-and-after data collection for purposes of Government Performance and Results Act reporting as a condition of obtaining a Full Funding Grant Agreement (FFGA). It is also important to note that since this is a new regulatory requirement, the burden estimates include all data collection efforts required by this Rule, regardless of whether the same data would have been required under the previous, policy statement-driven process. Thus, the total burden estimate includes items that would have been required whether this regulation had been issued or not. These estimates were also provided in the preamble to the Final Rule dated December 7, 2000.

Estimated Total Annual Burden: 32,920 hours.

ADDRESSES: All written comments must refer to the docket number that appears at the top of this document and be submitted to the Office of Information and Regulatory Affairs, Office of Management and Budget, 725-17th Street, NW., Washington, DC 20503, Attention: FTA Desk Officer.

Comments are Invited On: Whether the proposed collection of information is necessary for the proper performance of the functions of the Department, including whether the information will have practical utility, the accuracy of the Department's estimate of the burden of the proposed information collection; ways to enhance the quality, utility, and clarity of the information to be collected; and ways to minimize the burden of the collection of information on respondents, including the use of automated collection techniques or other forms of information technology.

Dated: September 27, 2004.
Ann M. Linnertz,
Deputy Associate Administrator for Administrator.

[FR Doc. 04-22143 Filed 9-30-04; 8:45 am]

BILLING CODE 4910-57-M